NUCLEAR REGULATORY COMMISSION

[Docket No. 50-368]

Entergy Operations, Inc.; Notice of Issuance of Amendment to Facility Operating License

The U.S. Nuclear Regulatory Commission (Commission) has issued Amendment No. 244 to Facility Operating License No. NPF-6 issued to Entergy Operations, Inc. (the licensee), which revised the Operating License and Technical Specifications (TSs) for operation of Arkansas Nuclear One, Unit 2, located in Pope County, Arkansas. The amendment is effective as of the date of issuance.

The amendment modified the Operating License and the TSs to allow an increase in the maximum authorized reactor core power level from 2815 megawatts thermal (MWt) to 3026 MWt, which represents a power increase of about 7.5 percent and is considered to be an extended power uprate. Also, operation at the uprated power requested by the proposed amendment resulted in increases in dose consequences for certain postulated accidents considered in the accident analyses in the Safety Analysis Report; however, the doses remained within the regulatory limits. In addition, although unrelated to the proposed power uprate, the proposed amendment clarified portions of the control element assembly TSs.

The application for the amendment complies with the standards and requirements of the Atomic Energy Act of 1954, as amended (the Act), and the Commission's rules and regulations. The Commission has made appropriate findings as required by the Act and the Commission's rules and regulations in 10 CFR Chapter I, which are set forth in the license amendment.

Notice of Consideration of Issuance of Amendment to Facility Operating License and Opportunity for a Hearing in connection with this action was published in the Federal Register on December 27, 2001 (66 FR 66945). No request for a hearing or petition for leave to intervene was filed following this notice.

The Commission has prepared an Environmental Assessment related to the action and has determined not to prepare an environmental impact statement. Based upon the environmental assessment, the Commission has concluded that the issuance of the amendment will not have a significant effect on the quality of the human environment (67 FR 20176, published April 24, 2002).

Further details with respect to the action see (1) the application for amendment dated December 19, 2000, as supplemented by letters dated May 30, June 20, 26 (two letters), 27, and 28, July 3 and 24 (two letters), August 7, 13, 21, 23, and 30, September 14, October 1, 12 (two letters), 17, 30 (two letters), and 31, November 9, 16 (three letters), and 17, and December 5, 6 (two letters), 10, and 20, 2001, and January 14, 15, and 31, February 7 (two letters), and March 1, 2002, (2) Amendment No. 244 to License No. NFP-6, (3) the Commission's related Safety Evaluation, and (4) the Commission's Environmental Assessment. Documents may be examined, and/or copied for a fee, at the NRC's Public Document Room, located at One White Flint North, 11555 Rockville Pike (first floor), Rockville, Maryland. Publicly available records will be accessible electronically from the Agencywide Documents Access and Management Systems (ADAMS) Public Electronic Reading Room on the internet at the NRC Web site, http://www.nrc.gov/NRC/ADAMS/index.html. Persons who do not have access to ADAMS or who encounter problems in accessing the documents located in ADAMS, should contract the NRC Public Document Room Reference staff by telephone at 1-800-397-4209, 301-415-4737 or by e-mail to pdr@nrc.gov.

Dated at Rockville, Maryland, this 24th day of April 2002.
For the Nuclear Regulatory Commission.
Thomas W. Alexion,
Project Directorate IV, Project Manager, Section 1, Division of Licensing Project Management, Office of Nuclear Reactor Regulation.

[FR Doc. 02-10589 Filed 4-29-02; 8:45 am]

BILLING CODE 7590-01-P